DEPARTMENT OF COMMERCE

Foreign-Trade Zones Board

[B-39-2016]

Foreign-Trade Zone 119—Minneapolis, Minnesota; Notification of Proposed Production Activity; SICK, Inc.; Subzone 119G; (Electronic Industrial Sensors, Encoders, Optical Readers and Monitoring Systems); Savage, Minnesota

The Greater Metropolitan Area Foreign Trade Zone Commission, grantee of FTZ 119, submitted a notification of proposed production activity to the FTZ Board on behalf of SICK, Inc. (SICK), operator of Subzone 119G, at its facility located in Savage, Minnesota. The notification conforming to the requirements of the regulations of the FTZ Board (15 CFR 400.22) was received on May 17, 2016.

SICK already has authority to produce photo-electronic industrial automation sensors within Subzone 119G. The current request would add new finished products (encoders, zone control sensors, proximity sensors, integrated optical readers, data process monitoring/reporting systems) and certain foreign components and materials to the scope of authority. Pursuant to 15 CFR 400.14(b), FTZ activity would be limited to the specific foreign-status components and specific finished products described in the submitted notification (as described below) and subsequently authorized by the FTZ Board.

Production under FTZ procedures could exempt SICK from customs duty payments on the foreign status components and materials used in export production. On its domestic sales, SICK would be able to choose the duty rates during customs entry procedures that apply to photo-electronic industrial automation sensors, encoders, zone control sensors, proximity sensors, integrated optical readers, and data process monitoring/reporting systems (free, 2.6% or 2.7%) for the foreign status inputs noted below and in the existing scope of authority. Customs duties also could possibly be deferred or reduced on foreign status production equipment.

The components and materials sourced from abroad are: adhesives of polymers; plastic labels; plastic gaskets/washers/seals; corrugated cartons; steel screws/bolts/nuts/washers; steel and brass nuts/bolts/screws; steel brackets; inductors; electrical connectors; and, metal clamps and brackets (duty rate ranges from free to 6.5%).

Public comment is invited from interested parties. Submissions shall be addressed to the FTZ Board's Executive Secretary at the address below. The closing period for their receipt is July 20, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: June 2, 2016.
Executive Secretary.

[FR Doc. 2016-13706 Filed 6-9-16; 8:45 am]

BILLING CODE 3510-DS-P